GENERAL SERVICES ADMINISTRATION

Privacy Act of 1974; Notice of New System of Records

AGENCY: General Services Administration.

ACTION: New Notice.

SUMMARY: GSA proposes to establish a new system of records subject to the Privacy Act of 1974, as amended, 5 U.S.C. 552a.

DATES: Effective September 9, 2009.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA proposes to establish a new system of records subject to the Privacy Act of 1974, as amended, 5 U.S.C. 552a. The system will capture electronically scanned images of financial documents, and store, retrieve, and process these images. Hard copies of these documents, which contain employee and vendor information, are currently being used to support the ongoing financial and payroll operations of the GSA Financial and Payroll Services Division (BCE).

Dated: August 4, 2009.
Cheryl M. Paige,
Director, Office of Information Management.

GSA/PPFM-12

SYSTEM NAME:

ImageNow.

SYSTEM LOCATION:

The system is maintained in Kansas City, MO, in the Financial Administrative Systems Division (BDT).

INDIVIDUALS COVERED BY THE SYSTEM:

All employees and vendors who require and receive financial and payroll services from GSA.

RECORDS IN THE SYSTEM:

System records include information that identify vendors and/or employees by their names or other unique identifier in conjunction with other data elements such as gender, birth date, age, marital status, spouse and dependents, home e-mail addresses, home addresses, home phone numbers, health records, Social Security Numbers, Employer Identification Numbers, payroll deductions, banking information, personal credit card information, and similar personally identifiable information.

AUTHORITY FOR MAINTAINING THE SYSTEM:

5 U.S.C. Part III, Subparts D and E, 26 U.S.C. Chapter 24 and 2501, and Executive Order 9397, and the Chief Financial Officers (CFO) Act of 1990 (Pub. L. 101-576) as amended (Chapter 9 of Title 31 of the U.S. Code (2009)).

PURPOSE:

The purpose of the system is to capture electronic images of financial documents, and store, retrieve, and process these images. It will maintain these images in order to support the day-to-day official operating needs of GSA's financial and payroll operations.

ROUTINE USES OF THE SYSTEM RECORDS, INCLUDING CATEGORIES OF USERS AND THEIR PURPOSE FOR USING THE SYSTEM.

System users will be limited to those U.S. government employees that require this information to perform their assigned official responsibilities. All access will be reviewed and approved by the employee's supervisor, system owner and the information system security officer. Information from this system also may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To conduct investigations, by authorized officials, that are investigating or settling a grievance, complaint, or appeal filed by an individual who is the subject of the record.

d. To the Office of Personnel Management (OPM), the Office of Management and Budget (OMB), and the Government Accountability Office (GAO) when the information is required for program evaluation purposes.

e. To a Member of Congress or his or her staff on behalf of and at the request of the individual who is the subject of the record.

f. To a Federal agency in connection with the hiring or retention of an employee; the issuance of a security clearance; the reporting of an investigation; the letting of a contract; or the issuance of a grant, license, or other benefit to the extent that the information is relevant and necessary to a decision.

g. To authorized officials of the agency that provided the information for inclusion in ACMIS.

h. To an expert, consultant, or contractor of GSA in the performance of a Federal duty to which the information is relevant.

i. To the National Archives and Records Administration (NARA) for records management purposes.

j. To appropriate agencies, entities, and persons when (1) The Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF RECORDS IN THE SYSTEM:

STORAGE:

All records are stored electronically in client-server computer format.

RETRIEVABILITY:

Records are retrievable with indexing values or other unique identifiers such as name or Social Security Number.

SAFEGUARDS:

System records are safeguarded in accordance with the requirements of the Privacy Act. Access is limited to authorized individuals with strengthened passwords, and the database is maintained behind a firewall that meets strict GSA OCIO security requirements.

RETENTION AND DISPOSAL:

System records are retained and disposed of according to GSA records maintenance and disposition schedules and the requirements of the National Archives and Records Administration.

SYSTEM MANAGER AND ADDRESS:

Director, Financial and Payroll Services Division, OCFO, GSA (BCE), 1500 E. Bannister Road, Kansas City, Missouri 66085.

NOTIFICATION PROCEDURE:

Individuals wishing to inquire if the system contains information about them should contact the program manager at the above address.

RECORD ACCESS PROCEDURE:

Individuals wishing to access their own records may do so by sending a request to the program manager listed above.

CONTESTING RECORD PROCEDURES:

GSA rules for access to records, and for contesting the contents and appealing initial determinations are provided in 41 CFR part 105-64.

RECORD SOURCE CATEGORIES:

The source for the image data in the system originates from the individuals and vendors who submit the documents on their own behalf. In addition, documents may come from Federal Government Agencies that may include Privacy Act information.

[FR Doc. E9-19102 Filed 8-7-09; 8:45 am]

BILLING CODE 6820-34-P